DEPARTMENT OF HOUSING AND URBAN DEVELOPMENT

DEPARTMENT OF AGRICULTURE

[Docket No. FR-6271-N-02]

RIN 2506-AC55

Adoption of Energy Efficiency Standards for New Construction of HUD- and USDA-Financed Housing: Preliminary Determination and Solicitation of Comment; Extension of Comment Period

AGENCY: Department of Housing and Urban Development and Department of Agriculture.

ACTION: Notice of Preliminary Determination; extension of comment period.

SUMMARY: On May 18, 2023, the U.S. Department of Housing and Urban Development (HUD) and U.S. Department of Agriculture (USDA) published in the Federal Register a notice of preliminary determination entitled “Adoption of Energy Efficiency Standards for New Construction of HUD- and USDA-Financed Housing: Preliminary Determination and of Comment,” announcing the two agencies' joint preliminary determination, as required under section 481(d)(1) of the Energy Independence and Security Act of 2007 (EISA), that adoption of the 2021 IECC and ASHRAE 90.1-2019 code standards will not negatively affect the affordability and availability of housing for new construction of HUD and USDA housing covered by EISA and seeking public comment on the preliminary determination. The preliminary determination is the first step to ultimately requiring compliance with these standards in HUD and USDA housing covered by EISA. The notice provided for a 60-day comment period, which would have ended July 17, 2023. HUD has determined that a 21-day extension of the comment period, until August 7, 2023, is appropriate. This extension will allow interested persons additional time to analyze the preliminary determination and prepare their comments.

DATES: The comment period for the preliminary determination published on May 18, 2023, at 88 FR 31773, is extended. Comments should be received on or before August 7, 2023.

ADDRESSES: Interested persons are invited to submit comments regarding this notice to the Regulations Division, Office of General Counsel, Department of Housing and Urban Development, 451 7th Street SW, Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-402-3055 (this is not a toll-free number). HUD welcomes and is prepared to receive calls from individuals who are deaf or hard of hearing, as well as individuals with communication disabilities. To learn more about how to make an accessible telephone call, please visit https://www.fcc.gov/consumers/guides/telecommunications-relay-service-trs. Copies of all comments submitted are available for inspection and downloading at www.regulations.gov.

FOR FURTHER INFORMATION CONTACT: HUD: Michael Freedberg, Office of Environment and Energy, Department of Housing and Urban Development, 451 7th Street SW, Room 7282, Washington, DC 20410; telephone number 202-402-4366 (this is not a toll-free number). USDA: Meghan Walsh, Rural Housing Service, Department of Agriculture, 1400 Independence Avenue SW, Washington, DC 20250; telephone number (202) 573-3692 (this is not a toll-free number). HUD welcomes and is prepared to receive calls from individuals who are deaf or hard of hearing, as well as individuals with speech or communication disabilities. To learn more about how to make an accessible telephone call, please visit www.fcc.gov/consumers/guides/telecommunications-relay-service-trs.

SUPPLEMENTARY INFORMATION: The Energy Independence and Security Act of 2007 (EISA) (Pub. L. 110-140) establishes procedures for the U.S. Department of Housing and Urban Development (HUD) and the U.S. Department of Agriculture (USDA) to adopt periodic revisions to the International Energy Conservation Code (IECC) and to ANSI/ASHRAE/IES Standard 90.1: Energy Standard for Buildings, Except Low-Rise Residential Buildings (ASHRAE 90.1), subject to a determination by HUD and USDA that the revised codes do not negatively affect the availability or affordability of new construction of single and multifamily housing covered by EISA. On May 18, 2023, at 88 FR 31773, HUD and USDA published a notice of preliminary determination entitled “Adoption of Energy Efficiency Standards for New Construction of HUD- and USDA-Financed Housing: Preliminary Determination and Solicitation of Comment,” announcing the two agencies' joint preliminary determination that adoption of the 2021 IECC and ASHRAE 90.1-2019 code standards will not negatively affect the affordability and availability of housing for new construction of HUD and USDA housing covered by EISA and seeking public comment on the preliminary determination. In making the preliminary determination, the first step to ultimately requiring compliance with these standards in HUD and USDA housing covered by EISA, the notice relies on several studies that show that these codes are cost effective in that the incremental cost of the additional efficiency measures pays for themselves with energy cost savings on a life-cycle basis.

While the preliminary determination provided a 60-day comment period, HUD has received feedback from several commenters requesting additional time to review and provide comments on this rule. Therefore, HUD is extending the deadline for comments for an additional 21 days to August 7, 2023.

Aaron Santa Anna,
Associate General Counsel for Legislation and Regulations, HUD.

Cathy Glover,
Acting Administrator, Rural Housing Service, Rural Development, USDA.

[FR Doc. 2023-15014 Filed 7-12-23; 8:45 am]

BILLING CODE 4210-67-P